DEPARTMENT OF EDUCATION

National Assessment Governing Board; Notice

AGENCY: National Assessment Governing Board; U.S. Department of Education.

ACTION: Recommendations for candidates to fill board vacancies.

SUMMARY: The Secretary of Education, the Honorable Rod Paige, and the National Assessment Governing Board (NAGB), seek your assistance in identifying qualified individuals who can serve as members of the National Assessment Governing Board.

In 1988 Congress passed legislation creating the Board. In 1994 Congress amended and reauthorized the original legislation. The statute provides that “* * * the Secretary and the Board shall ensure at all times that the membership of the Board reflects regional, racial, gender, and cultural balance and diversity * * *;” Currently, the Board is comprised of 26 members, each of whom serves a four-year term. The membership of the Board represents a wide and specified diversity of expertise and experience. As vacancies occur, new members of the Board are appointed by the Secretary from among candidates who are nominated by the Board itself, after national consultation with many organizations, associations, and knowledgeable individuals. For each vacancy, the Board must nominate at least six persons who, by reason of experience or training, are qualified in a particular category. Current members of the Board who have not completed two full terms, and who are otherwise eligible, may be re-nominated.

In order for the Board to consider a candidate, it is essential to have a nominating letter, which sets forth your evaluation of the recommended individual's qualifications, as well as a current resume for the individual being suggested. For 2002, the Board must nominate candidates for eight positions in the following eight categories:

1. Elementary School Principal

2. Secondary School Principal

3. Fourth-Grade Teacher

4. Eighth-Grade Teacher

5. Representative of Business or Industry

6. Representative of the General Public, including Parents

7. State Legislator (Democrat)

8. Chief State School Officer.

Please feel free to nominate potential candidates in any of the above categories. Note, however, that in order to receive full consideration, all recommendations must be received by the Board no later than February 22, 2002. Nominations or inquires should be directed to: National Assessment Governing Board, 800 North Capitol Street, NW, Suite 825, Washington, DC 20002-4233, Attention: Dr. Sharif Shakrani.

FOR FURTHER INFORMATION CONTACT: Sharif Shakrani, Deputy Executive Director, National Assessment Governing Board, 800 North Capitol Street, NW, Suite #825, Washington, DC 20002-4233, telephone: (202) 357-6938.

SUPPLEMENTARY INFORMATION: The National Assessment Governing Board is established under section 412 of the National Education Statistics Act of 1994 (Title IV of the Improving America's Schools Act of 1994) (Pub. L. 103-382). The Board is established to formulate policy guidelines for the National Assessment of Educational Progress. The Board is responsible for selecting subject areas to be assessed, developing assessment objectives, identifying appropriate achievement goals for each grade and subject tested, and establishing standards and procedures for interstate and national comparisons. More detailed information about the Governing Board and the National Assessment of Educational Progress program is available on the NAGB Web site: http//www.nagb.org.

Dated: October 19, 2001.
Roy Truby,
Executive Director, National Assessment Governing Board.

[FR Doc. 01-26747 Filed 10-23-01; 8:45 am]

BILLING CODE 4000-01-M